NUCLEAR REGULATORY COMMISSION

DEPARTMENT OF ENERGY

[Docket No. PAPO-001; ASLBP No. 08-861-01-PAPO-BD01]

Establishment of Atomic Safety and Licensing Board

Pursuant to delegation by the Commission dated December 13, 2007, contained in Staff Requirements Memorandum COMSECY-07-0030, and the Commission's regulations, see 10 CFR 1.15, 2.1000, and 2.1010, this Atomic Safety and Licensing Board is being established to act as an Advisory Pre-License Application Presiding Officer Board (Advisory PAPO Board) to obtain input and suggestions from parties and potential parties on the broad range of procedural matters expected to arise from, and associated case management requirements that could be imposed in, any adjudication regarding an application by the Department of Energy (DOE) for authorization to construct a high-level waste (HLW) repository at Yucca Mountain, Nevada. Following receipt of input and suggestions—and, to the extent practicable, prior to or contemporaneously with the tendering of an application for construction authorization by DOE for a HLW repository—the Advisory PAPO Board will submit its proposed case management language to the Commission for possible inclusion in the Commission's notice of opportunity to request a hearing and order governing the hearing process regarding the DOE application.¹

¹ In accordance with the July 2004 notice establishing an Atomic Safety and Licensing Board to consider Licensing Support Network (LSN)-related matters, see 69 FR 42,218 (July 14, 2004), unless and until additional licensing boards or other presiding officers are appointed to rule on individual pre-license application phase issues, or classes of issues, relating to the LSN, all requests for Pre-License Application Presiding Officer consideration of LSN-related problems should continue to be submitted to that Licensing Board.

The Advisory PAPO Board is comprised of the following administrative judges:

Thomas S. Moore, Chair, Atomic Safety and Licen sing Board Panel, U.S. Nuclear Regulatory Commission, Washington, DC 20555-0001.

G. Paul Bollwerk, III, Atomic Safety and Licensing Board Panel, U.S. Nuclear Regulatory Commission, Washington, DC 20555-0001.

E. Roy Hawkens, Atomic Safety and Licensing Board Panel, U.S. Nuclear Regulatory Commission, Washington, DC 20555-0001.

All correspondence, documents, and other materials shall be filed with the administrative judges in accordance with 10 CFR 2.1010(d).

Issued at Rockville, Maryland, this 13th day of February 2008.
E. Roy Hawkens,
Chief Administrative Judge, Atomic Safety and Licensing Board Panel.

[FR Doc. E8-3098 Filed 2-19-08; 8:45 am]

BILLING CODE 7590-01-P